DEPARTMENT OF AGRICULTURE

Forest Service

Notice of New Fee; Federal Lands Recreation Enhancement Act (Title VIII, Pub. L. 108-447)

AGENCY: Sumter National Forest, USDA Forest Service.

ACTION: Notice of New Fee Site.

SUMMARY: The Sumter National Forest proposes to begin charging a $3.00 fee for the use of the FORKS Mountain Bike Trail. Continued interest in mountain bike trails, especially in this area, have shown the public's interest in this activity will be appreciated and well received. Funds derived from this fee will be used for the continued maintenance of the trail, provide porta-potties for sanitation, provide drinking water to meet DHEC standards and maintain the trailhead. This project was made possible through a cooperative effort between the Forest Service, South Carolina Parks Recreation and Tourism, Southern Off Road Biking Association, Long Cane Trails, Michelin and Upper Savannah Land Trust.

DATES: The proposed fee will be initiated October 31, 2006. Comments, concerns or questions about this new fee must be submitted by May 30, 2006.

ADDRESSES: Submit comments, concerns or questions about the new fee associated with forks Mountain Bike Trail to: Forest Supervisor, Sumter National Forest, 4931 Broad River Road, Columbia, SC 29212-3530.

FOR FURTHER INFORMATION CONTACT: Libby Meadows, Outdoor Recreation Planner, 864, 746-6120.

SUPPLEMENTARY INFORMATION: The Federal Recreation Lands Enhancement Act (Title VIII, Pub. L. 108-447) directed the Secretary of Agriculture to publish a six-month advance notice in the Federal Register whenever new recreation fee areas are established. The Sumter National Forest, Long Cane Ranger District, currently has a large mountain biking community. The Recreation Resource Advisory Committee will review consideration for new fee at least three months prior to proposed initiation date.

Dated: April 11, 2006.
Kerwin Dewberry,
Acting Ranger, Long Cane Ranger District.

[FR Doc. 06-3737 Filed 4-18-06; 8:45 am]

BILLING CODE 3410-11-M